DEPARTMENT OF ENERGY

Federal Energy Regulatory Commission

[Docket Nos. CP19-502-000; CP19-502-001]

Commonwealth LNG, LLC; Notice of Intent To Prepare an Environmental Impact Statement for the Proposed Commonwealth LNG Project, Request for Comments on Environmental Issues, and Revised Schedule for Environmental Review

The staff of the Federal Energy Regulatory Commission (FERC or Commission) will prepare an environmental impact statement (EIS) that will discuss the environmental impacts of the Commonwealth LNG Project (Project) involving construction and operation of facilities by Commonwealth LNG, LLC (Commonwealth LNG) in Cameron Parish, Louisiana. The Commission will use this EIS in its decision-making process to determine whether the Project is in the public convenience and necessity. The schedule for preparation of the EIS is discussed in the Schedule for Environmental Review section of this notice.

As part of the National Environmental Policy Act (NEPA) review process, the Commission takes into account concerns the public may have about proposals and the environmental impacts that could result whenever it considers the issuance of an authorization. This gathering of public input is referred to as “scoping.” By notice issued on February 22, 2018, in Docket No. PF17-8, the Commission opened a scoping period during the pre-filing review process for the Project; and staff intends to prepare an EIS that will address the concerns raised during that previous scoping period as well as comments received in response to this notice based on Commonwealth LNG's Project application filing, as supplemented, in Docket No. CP19-502. Therefore, the Commission requests comments on potential alternatives and impacts, and any relevant information, studies, or analyses of any kind concerning impacts affecting the quality of the human environment. To ensure that your comments are timely and properly recorded, please submit your comments so that the Commission receives them in Washington, DC on or before 5:00 p.m. Eastern Time on October 25, 2021. Further details on how to submit comments are provided in the Public Participation section of this notice.

As mentioned above, the Commission previously opened a scoping period which expired on March 26, 2018. All substantive written and oral comments provided during the previous scoping period will be addressed in the EIS. Therefore, if you submitted comments on this Project to the Commission during the previous scoping period, you do not need to file those comments again.

Commonwealth LNG provided landowners with a fact sheet prepared by the FERC entitled “An Interstate Natural Gas Facility On My Land? What Do I Need To Know?” which addresses typically asked questions, including how to participate in the Commission's proceedings. This fact sheet along with other landowner topics of interest are available for viewing on the FERC website (www.ferc.gov) under the Natural Gas Questions or Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the Project docket numbers (CP19-502-000; CP19-502-001) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

Summary of the Proposed Project

Commonwealth LNG proposes to construct and operate a new liquefied natural gas (LNG) export terminal and accompanying natural gas pipeline on the west side of the Calcasieu Ship Channel at its entrance to the Gulf of Mexico. The LNG export terminal would consist of six natural gas liquefaction trains (with nominal liquefaction and production capacities of 1.4 million metric tonnes per annum each), six LNG storage tanks (with storage capacities of 50,000 cubic meters each), and one marine berth capable of accommodating LNG carriers with capacities up to 216,000 cubic meters. Commonwealth LNG would construct a 42-inch-diameter natural gas pipeline from the LNG export terminal, extending 3.0 miles north to interconnect with existing natural gas pipelines within Cameron Parish. The proposed Project would require about 182 acres to construct and would occupy about 107 acres during operation.

Commonwealth states that the purpose of the proposed Project is to liquefy and export to foreign markets, domestically produced natural gas sourced from the existing interstate and intrastate pipeline systems of Kinetica Partners, LLC and EnLink Bridgeline Holdings LP, respectively, in southwest Louisiana.

The general location of the Project is shown in appendix 1.¹

¹ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the previous pre-filing review and a review of Commonwealth LNG's filed proposal, Commission staff have identified a few expected impacts that deserve attention in the EIS. These include wetland impacts, associated threatened and endangered species impacts, and increased greenhouse gas emissions.

The NEPA Process and the EIS

The EIS issued by the Commission will discuss impacts that could occur as a result of the construction and operation of the proposed Project under the relevant general resource areas:

• Geology and soils;

• water resources and wetlands;

• vegetation and wildlife;

• threatened and endangered species;

• cultural resources;

• land use;

• socioeconomics and environmental justice;

• air quality and noise;

• public safety; and

• cumulative impacts.

Commission staff will also make recommendations on how to lessen or avoid impacts on the various resource areas. Your comments will help Commission staff focus its analysis on the issues that may have a significant effect on the human environment.

The EIS will present Commission staff's independent analysis of the issues. Staff will prepare a draft EIS which will be issued for public comment. Commission staff will consider all timely comments received during the comment period on the draft EIS and revise the document, as necessary, before issuing a final EIS. Any draft and final EIS will be available in electronic format in the public record through eLibrary ² and the Commission's natural gas environmental documents web page (https://www.ferc.gov/industries-data/natural-gas/environment/environmental-documents). If eSubscribed, you will receive instant email notification when the environmental document is issued.

² For instructions on connecting to eLibrary, refer to the last page of this notice.

Alternatives Under Consideration

The EIS will evaluate reasonable alternatives that are technically and economically feasible and meet the purpose and need for the proposed action. Alternatives currently under consideration include:

• The no-action alternative, meaning the Project is not implemented;

• use of other existing and proposed LNG terminals to provide the liquefaction capabilities proposed by Commonwealth LNG; and

• alternative locations to construct the Project.

With this notice, the Commission requests specific comments regarding any additional potential alternatives to the proposed action or segments of the proposed action. Please focus your comments on reasonable alternatives (including alternative facility sites and pipeline routes) that meet the Project purpose, are technically and economically feasible, and avoid or lessen environmental impact.

Consultation Under Section 106 of the National Historic Preservation Act

In accordance with the Advisory Council on Historic Preservation's implementing regulations for section 106 of the National Historic Preservation Act, the Commission initiated section 106 consultation for the Project in the notice issued on February 22, 2018, with the applicable State Historic Preservation Officer, and other government agencies, interested Indian tribes, and the public to solicit their views and concerns regarding the Project's potential effects on historic properties.³ This current notice is a continuation of section 106 consultation for the Project. The Project EIS will document findings on the impacts on historic properties and summarize the status of consultations under section 106.

³ The Advisory Council on Historic Preservation's regulations are at Title 36, Code of Federal Regulations, Part 800. Those regulations define historic properties as any prehistoric or historic district, site, building, structure, or object included in or eligible for inclusion in the National Register of Historic Places.

Schedule for Environmental Review

On September 3, 2019, the Commission issued its Notice of Application for the Project. Among other things, that notice alerted other agencies issuing federal authorizations of the requirement to complete all necessary reviews and to reach a final decision on the request for a federal authorization within 90 days of the date of issuance of the Commission staff's final EIS for the Project. On October 15, 2019, the Commission issued a notice of schedule for environmental review of the Project, which identified October 2, 2020 as the final EIS issuance date. However, the Commission suspended the environmental review schedule for the Project on March 16, 2020, pending adequate responses from Commonwealth LNG to Commission staff data requests and an official interpretation from the U.S. Department of Transportation's Pipeline and Hazardous Material Safety Administration (PHMSA) pertaining to Commonwealth LNG's proposed LNG storage tank design. On June 8, 2021, Commonwealth LNG filed a limited amendment to its Natural Gas Act Section 3 Application to modify the proposed LNG storage tank designs and capacities so as not to require an interpretation from PHMSA. Commonwealth LNG has filed the majority of responses to the Commission staff's data requests to-date and have stated that all outstanding responses will be filed in 2021. As a result, Commission staff have revised the schedule for issuance of the final EIS, based on an issuance of the draft EIS in March 2022.

Issuance of Notice of Availability of the final EIS: September 9, 2022

90-day Federal Authorization Decision Deadline: December 8, 2022

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy their NEPA responsibilities related to this Project. Agencies that would like to request cooperating agency status should follow the instructions for filing comments provided under the Public Participation section of this notice.

Environmental Permits, Approvals, Clearances, and Consultations
Agency | Permit, approval, or consultation
Federal:
Federal Energy Regulatory Commission | Natural Gas Act Section 3.
U.S. Department of Energy/Office of Fossil Energy | Natural Gas Act Section 3, Amendment of Free Trade Agreement Authorization and Non-Free Trade Agreement Authorization.
U.S. Army Corps of Engineers | Clean Water Act Section 404/Rivers & Harbors Act Section 10.
| Section 408 (Section 14 Rivers & Harbors Act).
U.S. Army Corps of Engineers | Programmatic General Permit—Category 1 for Geotechnical Investigation.
U.S. Coast Guard | Letter of Intent and Preliminary Waterway Suitability Assessment.
| Follow-on Waterway Suitability Assessment
| Letter of Recommendation.
U.S. Fish & Wildlife Service | Section 7 of the Endangered Species Act.
| Migratory Bird Treaty Act.
| Bald and Golden Eagle Protection Act.
National Marine Fisheries Service, Protected Resources Division | Section 7 of the Endangered Species Act.
National Marine Fisheries Service, Habitat Conservation Division | Magnuson-Stevens Fishery Management and Conservation Act Essential Fish Habitat Consultation.
National Marine Fisheries Service, Office of Protected Resources | Marine Mammal Protection Act.
Federal Aviation Administration | Notice of Proposed Construction.
Federal Emergency Management Agency | Permit for floodplain development.
U.S. Department of Transportation | Pre-construction Notice.
State of Louisiana:
Louisiana Department of Natural Resources, Office of Coastal Management | Coastal Use Permit Coastal Zone Management Act Consistency Determination.
Louisiana Department of Environmental Quality—Air Quality Division | Air Emissions Permit (Title V and Prevention of Significant Deterioration).
Louisiana Department of Environmental Quality—Water Quality Division | Section 401 Clean Water Act Water Quality Certification.
| Louisiana Pollutant Discharge Elimination System General Permit LAG670000—Hydrostatic Test and Vessel Testing Wastewater.
| Louisiana Pollutant Discharge Elimination System General Permit LAR050000—Multi-Sector General Stormwater Permit.
Louisiana Department of Wildlife and Fisheries | Threatened and Endangered Species Consultation.
| License to Dredge.
| Oyster lease consultation.
Louisiana Department of Culture Recreation and Tourism/State Historic Preservation Officer | Section 106 National Historic Preservation Act Consultation.
Louisiana Department of Transportation and Development | Review of road easements, modifications to state highways, traffic safety.
Louisiana Office of State Lands | State Water Bottom Lease.
Cameron Parish:
Cameron Parish Police Jury | Development Permit.
| Coastal Use Letter of No Objection.
Coastal Protection and Restoration Authority | Letter of No Impact.

Environmental Mailing List

This notice is being sent to the Commission's current environmental mailing list for the Project which includes federal, state, and local government representatives and agencies; elected officials; environmental and public interest groups; federally recognized Indian tribes; other interested parties; and local libraries and newspapers. This list also includes all affected landowners (as defined in the Commission's regulations) who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed project and encourage them to comment on their areas of concern.

If you need to make changes to your name/address, or if you would like to remove your name from the mailing list, please complete one of the following steps:

(1) Send an email to GasProjectAddressChange@ferc.gov stating your request. You must include the docket number CP19-502-000 or 001 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field (i.e., CP19-502). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 24, 2021.
Kimberly D. Bose,
Secretary.

[FR Doc. 2021-21268 Filed 9-29-21; 8:45 am]

BILLING CODE 6717-01-P